DEPARTMENT OF COMMERCE

National Oceanic and Atmospheric Administration

RIN 0648-XD294

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold a meeting of the Standing, Special Reef Fish and Ecosystem Scientific and Statistical Committees (SSC).

DATES: The meetings will be held from 9 a.m. on Tuesday, June 3 until 12 noon, Thursday, June 5, 2014.

ADDRESSES: Meeting address: The meetings will be held at The Biltmore Hotel, 1200 Anastasia Avenue, Coral Gables, FL 33134.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agendas are as follows:

Standing and Ecosystem SSC Agenda, Tuesday, June 3, 2014, 9 a.m. Until 12 Noon CST

1. Adoption of Agenda

2. Approval of March 28, 2013 Standing and Ecosystem SSC summary minutes

3. GOM Ecosystem Assessment Status Report

Standing, Special Reef Fish, and Ecosystem SSC Agenda, Tuesday, June 3, 2014, 1:30 p.m. Until 5 p.m., Wednesday, June 4, 2014, 8:30 a.m. Until 5 p.m., and Thursday, June 5, 2014, 8:30 a.m. Until 12 Noon

4. Adoption of Agenda

5. Approval of January 23-24, 2014 Standing and Special Reef Fish SSC summary minutes

6. SEDAR 33 Benchmark Assessments

a. Gag

b. Greater amberjack

7. Discussion on Integrating Ecosystem Considerations into SEDAR Assessments

8. Red Snapper Slot Limit and Hook Size Analysis

9. Selection of Participants for a Workshop to Evaluate MSY and ABC control Rule Based Benchmarks for Penaeid Shrimp

10. Selection of SSC representative at June 23-27, 2014 Council meeting (Key West)

11. Other business

The Agenda is subject to change, and the latest version will be posted on the Council's file server, which can be accessed by going to the Council Web site at http://www.gulfcouncil.org and clicking on FTP Server under Quick Links. The meetings will be webcast over the Internet. A link to the webcast will be available on the Council's Web site, http://www.gulfcouncil.org. Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: May 13, 2014.
Tracey L. Thompson,
Acting Deputy Director, Office of Sustainable Fisheries, National Marine Fisheries Service.

[FR Doc. 2014-11344 Filed 5-15-14; 8:45 am]

BILLING CODE 3510-22-P